DEPARTMENT OF TRANSPORTATION

Federal Highway Administration

Notice of Final Federal Agency Actions on Transportation Project in Washington State

AGENCY: Federal Highway Administration (FHWA), Department of Transportation (DOT).

ACTION: Notice of limitation on claims for judicial review of actions by FHWA.

SUMMARY: This notice announces actions taken under the National Environmental Policy Act by the FHWA that are final. The action relates to the Confluence Parkway Project proposed by the City of Wenatchee, a new two-lane arterial street that would begin at the existing U.S. 2/Euclid Avenue interchange, cross the Wenatchee River on a new bridge, and extend south to the intersection of North Miller Street and North Wenatchee Avenue. The corridor would have one vehicle travel lane and bicycle lane in each direction. Two-way left turn lanes would be included between Wenatchee Confluence State Park and the U.S. 2/Euclid Avenue interchange as well as south of the junction of Hawley Street and North Miller Street.

DATES: A claim seeking judicial review of the Federal agency actions on the listed highway project will be barred unless the claim is filed on or before February 26, 2024. If the Federal law that authorizes judicial review of a claim provides a time period of less than 150 days for filing such claim, then that shorter time period still applies.

FOR FURTHER INFORMATION CONTACT: William Witucki, Area Engineer, Federal Highway Administration (FHWA), 711 S Capitol Way, Suite 501, Olympia, WA 98501-1284, 360-753-9480, william.wituck@dot.gov or hdawa@dot.gov; or Laura Gloria, Executive Services Director, City of Wenatchee, 301 Yakima Street, Wenatchee, WA 98801, 509-888-3616, LGloria@WenatcheeWA.gov.

SUPPLEMENTARY INFORMATION: Notice is hereby given that FHWA has taken final agency actions within the meaning of 23 U.S.C. 139(l)(1) by issuing a NEPA Finding of No Significant Impact (FONSI) for the Confluence Parkway Project in Wenatchee, Washington. The action(s) by FHWA and the laws under which such actions were taken, are described in the FONSI and the associated agency records. That information is available by contacting FHWA at the addresses provided above.

The project proposed to support economic vitality by reducing congestion that is expected to worsen without improvement due to high growth in the area. The intersection improvements will further reduce crashes in the corridor. The project applies a variety of environmental justice evaluation tools, supporting zero emission vehicle infrastructure, and increasing wildfire evacuation capacity. The project is partially locating within an Opportunity Zone. FONSI for the project was published in September 2023.

Information about the FONSI and associated records are available from FHWA and City of Wenatchee at the addresses provided above and can be found at: https://www.wenatcheewa.gov/home/showpublisheddocument/28981/638296697168200000.

This notice applies to all Federal agency decisions related to the FONSI as of the issuance date of this notice and all laws under which such actions were taken, including but not limited to:

1. General: National Environmental Policy Act (NEPA) [42 U.S.C. 4321-4347]; Federal-Aid Highway Act [23 U.S.C. 109].

2. Air: Clean Air Act, as amended [42 U.S.C. 7401-7671(q)].

3. Land: Section 6(f) of the Land and Water Conservation Fund Act of 1965 [16 U.S.C. 4601]; Section 4(f) of the Department of Transportation Act of 1966 [49 U.S.C. 303].

4. Wildlife: Anadromous Fish Conservation Act [16 U.S.C. 757(a-757(g)); Fish and Wildlife Coordination Act [16 U.S.C. 661-667(d)]; Magnuson-Stevens Fishery Conservation and Management Act of 1976, as amended [16 U.S.C. 1801 et seq.].

5. Historic and Cultural Resources: Section 106 of the National Historic Preservation Act of 1966, as amended [16 U.S.C. 470(f) et seq.]; Archaeological and Historic Preservation Act [16 U.S.C. 469-469(c)]; Native American Grave Protection and Repatriation Act (25 U.S.C. 3001-3013).

6. Wetlands and Water Resources: Clean Water Act, (ection 319 [33 U.S.C. 329]); Safe Drinking Water Act [42 U.S.C. 300(f)-300(j)(6)].

7. Navigation: Rivers and Harbors Act of 1899 [33 U.S.C. 403]; General Bridge Act of 1946 [33 U.S.C. 9 and 11].

8. Executive Orders: E.O. 11990 Protection of Wetlands; E.O. 11988 Floodplain Management; E.O. 12898 Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species.

Authority: 23 U.S.C. 139(l)(1), as amended by Moving Ahead for Progress in the 21st Century Act, (Pub. L. 112-141, 126 Stat. 405).

Ralph J. Rizzo,
FHWA Division Administrator, Olympia, WA.

[FR Doc. 2023-21236 Filed 9-27-23; 8:45 am]

BILLING CODE 4910-RY-P